DEPARTMENT OF TRANSPORTATION

Federal Aviation Administration

Notice of Intent to Request Renewal From the Office of Management and Budget (OMB) of One New Public Collection of Information

AGENCY: Federal Aviation Administration (FAA), DOT.

ACTION: Notice.

SUMMARY: In compliance with the Paperwork Reduction Act (44 U.S.C. 3501 et seq.), the FAA invites the public comment on one public information collection which will be submitted to OMB for renewal.

DATES: Comments must be received on or before December 21, 2004.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following collection of information in order to evaluate the necessity of the collection, the accuracy of the agency's estimate of the burden, the quality, utility, and clarity of the information to be collected, and possible ways to minimize the burden of the collection in preparation for submission to renew the clearance of the following information collection.

1. 2120-XXXX, National Assessment of General Aviation Single Engine Land Pilots. The Civil Aerospace Medical Institute (CAMI) will collect the information on behalf of the Federal Aviation Administration's (FAA) Flight Standards (AFS) organization. Newly certified general aviation (GA) Airplane Single-Engine Land (ASEL) pilots within the United States will receive an anonymous and voluntary survey to complete and return by mail. The information collected will be used to assess pilots' experiences during the certification process. CAMI will be responsible for the logistical details associated with mailing out surveys and collecting and processing the responses. The current estimated annual reporting burden is 6,250 hours.

Issued in Washington, DC on October 15, 2004.
Judith D. Street,
FAA Information Collection Clearance Officer, APF-100.

[FR Doc. 04-23672 Filed 10-21-04; 8:45 am]

BILLING CODE 4910-13-M